DEPARTMENT OF COMMERCE

International Trade Administration

[A-570-502]

Iron Construction Castings from the People's Republic of China; Amended Final Results of Antidumping Duty Administrative Reviews in Accordance with Court Decision

AGENCY: Import Administration, International Trade Administration, U.S. Department of Commerce.

ACTION: Notice of Amended Final Results of Antidumping Duty Administrative Reviews in accordance with Court Decision.

SUMMARY: On February 10, 2000, the Court of International Trade affirmed the remand determinations of the Department of Commerce (the Department) arising from the 1987-88, 1988-89 and 1989-90 administrative reviews of the antidumping duty order on iron construction castings from the People's Republic of China (PRC). See Sigma Corp. v. United States, 86 F. Supp. 2d 1344, 1353 (CIT 2000). Because this is the final and conclusive court decision with respect to entries during these periods of review, we will instruct the U.S. Customs Service to liquidate entries subject to these amended final results.

EFFECTIVE DATE: September 9, 2002.

FOR FURTHER INFORMATION CONTACT: Christian Hughes, Doug Campau or Maureen Flannery, Antidumping/Countervailing Duty Enforcement, Import Administration, International Trade Administration, U.S. Department of Commerce, 14th Street and Constitution Avenue, NW., Washington DC 20230; telephone (202) 482-0648, (202) 482-1395, and (202) 482-3020, respectively.

SUPPLEMENTARY INFORMATION:

Scope of Antidumping Duty Order

This order covers certain iron construction castings, limited to manhole covers, rings and frames, catch basins, grates and frames, cleanout covers and frames used for drainage or access purposes for public utility, water and sanitary systems, and to valve, service and meter boxes which are placed below ground to encase water, gas or other valves, or water or gas meters. The articles must be of cast iron, not alloyed, and not malleable. Until January 1, 1989, iron constructions castings were classified under item 657.0950 and 657.0990 of the TSUSA. This merchandise is currently classified under Harmonized Tariff System (HTS) items 7325.10.00.00 and 7325.10.00.50. The HTS and TSUSA item numbers are provided for convenience and Customs purposes. The written description remains dispositive of the scope of the order.

Background

On May 9, 1986, the Department issued an antidumping duty order on iron construction castings from the PRC. See Antidumping Duty Order: Iron Construction Castings from the People's Republic of China, 51 FR 17222 (May 9, 1986) (Antidumping Duty Order). On January 24, 1991, the Department published final results of the administrative reviews of iron construction castings for the 1987-88 and 1988-89 review periods. See Iron Construction Castings from the People's Republic of China; Final Results of Antidumping Duty Administrative Reviews, 56 FR 2742 (January 24, 1991) (1987-88 and 1988-89). On March 27, 1992, the Department published the final results of the administrative review for the 1989-1990 period. See Iron Construction Castings from the People's Republic of China; Final Results of Antidumping Duty Administrative Reviews, 57 FR 10644 (March 27, 1992)

(1989-90).

In the 1987-88 and 1988-89 determinations, the Department concluded that no exporter had demonstrated that it was entitled to a separate rate. Therefore, it calculated a single country-wide, weighted-average margin for each of those reviews, based on data submitted by respondents. 56 FR at 2744. In the 1989-90 determination, the Department assigned a calculated separate rates margin of 92.74 percent to Guangdong Metals & Minerals Import & Export Corporation (Guangdong), and assigned the same margin, as best information available (BIA), as a country-wide rate to all other exporters. All of these determinations were appealed with respect to two types of issues relevant to these amended final results: (1) whether China National Machinery Import and Export Corporation (MACHIMPEX Liaoning) should be deemed included in the reviews, and (2) issues related to the calculation of the margins assigned for these periods.

Exclusion of MACHIMPEX Liaoning from Reviews

With respect to MACHIMPEX Liaoning, the Court of International Trade held that, under the circumstances of the relevant cases, that company had not received adequate notice that it was subject to these reviews, and ordered the Department to assess duties against its entries for these periods at the 11.66 percent deposit rate that plaintiff Overseas Trade Corporation (Overseas) paid upon importation. Sigma Corp. v. United States, 841 F. Supp. 1255, 1273 (CIT 1993)(1987-88/1988-89); Sigma Corp. v. United States, 841 F. Supp. 1275, 1285 (CIT 1993)(1989-90). This issue was not further appealed. The Department, therefore, amends its final results in these reviews to provide that MACHIMPEX Liaoning entries for the periods 1987-88, 1988-89 and 1989-90 will be liquidated at the 11.66 percent deposit rate.

1987-88/1988-89 Calculation Issues

With respect to calculation issues in the 1987-88 and 1988-89 reviews, on remand the Department made the changes to its final results described below. Some of these changes were addressed over the course of more than one remand.

(1) The Department recalculated depreciation expense based on information on the record, specifically the public version of a depreciation schedule submitted in a companion case on iron construction castings from India. The Court of International Trade upheld this determination in Sigma Corp. v. United States, 890 F. Supp. 1077, 1084 (CIT 1995), and the issue was not further appealed.

(2) The Department recalculated Guangdong's labor costs in order to include the skilled labor cost of lathe operators. This approach was upheld by the Court of International Trade. Id. at 1085 (remanding for correction of a clerical error in the remand skilled labor calculation, but dismissing “upon correction” of the error). The issue was not further appealed.

(3) The Department corrected clerical errors in its final results involving the amounts of aluminum and fireclay consumed in production. See Sigma Corp. v. United States, 841 F. Supp. 1255, 1274 (CIT 1993). This correction was upheld without comment in Sigma Corp. v. United States, 890 F. Supp. 1077, 1084 (CIT 1993), and was not further contested.

(4) In accordance with the mandate of the Court of Appeals for the Federal Circuit (Sigma Corp. v. United States, 117 F.3d 1401, 1406-08 (Fed. Cir. 1997)), Commerce devised a new methodology for valuing the inland freight component of constructed value for use when CIF import prices in a surrogate country are used to value inputs sourced domestically in non-market economy cases. Specifically, the Department used, for such inputs, a value for domestic inland freight based on the shorter of the reported distances from either the closest PRC seaport to the production site, or from the PRC domestic materials supplier to the production site. Sigma Corp. v. United States, 86 F. Supp. 2d 1344, 1348 (CIT 2000). Because for most inputs the actual supplier was closer to the castings foundry than the nearest seaport was to the castings foundry, this change in methodology affected only a limited number of inputs. Id.

1989-90 Calculation Issues

With respect to the calculation issues in the 1989-90 review, on remand the Department made the changes to its final results described below. Some of these issues were addressed over the course of more than one remand.

(1) The Department recalculated surrogate values for pig iron and scrap iron, relying upon publicly available published import statistics on pig iron and scrap iron imported into India. For pig iron, the Department, in a second remand, revised the tariff categories used in its first remand, to rely only upon the Indian tariff category for non-alloy pig iron containing less than 0.5 percent phosphorus. Sigma Corp. v. United States, 888 F. Supp. 159, 161 (CIT 1995). This issue was not further appealed.

(2) The Department recalculated its valuation of inland freight on inputs sourced domestically in China for which it had used CIF import prices in a surrogate country to value the inputs themselves. The Department used the methodology described at point (4), above, with respect to the 1987-88 and 1988-89 reviews. Sigma Corp. v. United States, 86 F. Supp. 2d 1344, 1348 (CIT 2000).

(3) The Department recalculated the surrogate valuation of overhead for Guangdong's foundries in this review. Based on the sizes of the foundries in question, it calculated an overhead rate for Guangdong's medium-size foundries and a rate for its small foundry. These rates were upheld in Id., 86 F. Supp. 2d at 1349.

PRC-wide Rate for 1989-90

Because the PRC-wide rate for the 1989-90 review period was based on Guangdong's calculated rate for that period, plaintiff importers also challenged the PRC-wide rate after Guangdong's original rate of 92.74 percent for 1989-90 was reduced in the course of the litigation. In Sigma Corp. v. United States, 117 F.3d 1401, 1411 (Fed. Cir. 1997), the Court of Appeals for the Federal Circuit held that, by challenging Guangdong's rate, the importers did so not only as to Guangdong's exports, but also as to the exports made by the PRC-wide entity, to which that margin had been assigned. Thus, the Court of Appeals reversed the Department's reliance on the 92.74 percent BIA rate for the PRC-entity, and remanded for selection of a rate that had not been judicially invalidated. Id. In its amended remand of January 30, 1998, the Department selected, as BIA for the PRC-wide entity (which in this review encompasses all exporters other than Guangdong and MACHIMPEX Liaoning), a rate of 28.77 percent, the rate calculated for the PRC-wide entity in that remand for the 1988-1989 period, and the highest margin not judicially invalidated at the time of that remand. This choice of a 1989-90 BIA rate for the PRC-wide entity was upheld in Sigma Corp. v. United States, 86 F.2d 1344, 1353 (CIT 2000), and was not further appealed.

On February 10, 2000, the CIT upheld the Department's final redetermination on remand with respect to these reviews. Sigma Corp. v. United States, 86 F. Supp. 2d 1344 (CIT 2000). This decision was not appealed. There is now a final and conclusive court decision in this action. Thus, we are amending our final results of these reviews. The rates for these amended final results, which are the rates upheld by the CIT on remand, are:

Period of Review | Manufacturer/exporter | Margin (percent)
5/1/1987-4/30/1988 | PRC-wide Rate* | 12.50
5/1/1988-4/30/1989 | PRC-wide Rate* | 28.77
5/1/1989-4/30/1990 | Guangdong Metals & Minerals Import & Export Corporation | 22.50
5/1/1989-4/30/1990 | PRC-wide rate* | 28.77
* As explained above, the Court of International Trade determined that China National Machinery Import and Export Corporation (MACHIMPEX Liaoning) is not within the scope of review for 1987-1988, 1988-1989, and 1989-1990. Duties for Overseas Trade Corporation (Overseas) imports from MACHIMPEX Liaoning are to be assessed at the 11.66 percent deposit rate that Overseas paid upon importation, rather than at the PRC-wide rate.

Accordingly, the Department will determine, and the United States Customs Service will assess, antidumping duties on all entries of subject merchandise in accordance with these amended final results. Individual differences between United States price and foreign market value may vary from the percentages stated above. The Department will issue appraisement instructions directly to Customs. The above rates will not affect the cash deposit rates currently in effect, which continue to be based on the margins found to exist in the most recently completed reviews for the relevant companies.

This notice is published in accordance with §751(a)(1) of the Tariff Act of 1930, as amended (19 U.S.C. 1675(a)(1)) and 19 CFR 351.221.

Dated: August 29, 2002.
Faryar Shirzad,
Assistant Secretary for Import Administration.

[FR Doc. 02-22841 Filed 9-6-02; 8:45 am]

BILLING CODE 3510-DS-S